DEPARTMENT OF THE TREASURY

Internal Revenue Service

26 CFR Part 1

[TD 8865]

RIN 1545-AS77

Amortization of Intangible Property; Correction

AGENCY: Internal Revenue Service (IRS), Treasury.

ACTION: Correcting amendment.

SUMMARY: This document contains a correction to Treasury Decision 8865, which was published in the Federal Register on Tuesday, January 25, 2000 (65 FR 3820), and corrected on March 28, 2000 (65 FR 16318), relating to the amortization of certain intangible property.

DATES: This correction is effective January 25, 2000.

FOR FURTHER INFORMATION CONTACT: John Huffman at (202) 622-3110 (not a toll-free number).

SUPPLEMENTARY INFORMATION:

Background

The final regulations that are the subject of this correction are under sections 167 and 197 of the Internal Revenue Code.

Need for Correction

As published, TD 8865 contains an error which may prove to be misleading and is in need of clarification.

List of Subjects in 26 CFR Part 1

Income taxes, Reporting and recordkeeping requirements.

Correction of Publication

Accordingly, 26 CFR part 1 is corrected by making the following correcting amendment:

PART 1—INCOME TAXES

Paragraph 1. The authority citation for part 1 continues to read in part as follows:

Authority: 26 U.S.C. 7805 * * *

§ 1.197-2 [Corrected]

Par. 2. Section 1.197-2(g)(3) is amended by revising the second sentence to read as follows:

§ 1.197-2 Amortization of goodwill and certain other intangibles.

* * * * *

(g) * * *

(3) * * * For purposes of determining the amortization period under section 197 with respect to the basis increase, the intangible is treated as having been acquired at the time of the transaction that causes the basis increase, except as provided in § 1.743-1(j)(4)(i)(B)(2). * * *

* * * * *

Cynthia Grigsby,
Chief, Regulations Unit, Office of Special Counsel (Modernization & Strategic Planning).

[FR Doc. 00-25999 Filed 10-11-00; 8:45 am]

BILLING CODE 4830-01-P